DEPARTMENT OF HEALTH AND HUMAN SERVICES

National Institutes of Health

Center for Scientific Review; Amended Notice of Meeting

Notice is hereby given of a change in the meeting of the Center for Scientific Review Special Emphasis Panel, July 23, 2001, 12 PM to July 23, 2001, 1 PM, NIH, Rockledge 2, Bethesda, MD, 20892 which was published in the Federal Register on July 16, 2001, 66 FR 37044-37046.

The meeting has been changed to July 6, 2001, from 3 PM to 4 PM. The location remains the same. The meeting is closed to the public.

Dated: July 19, 2001.
LaVerne Y. Stringfield,
Director, Office of Federal Advisory Committee Policy.

[FR Doc. 01-18716 Filed 7-26-01; 8:45 am]

BILLING CODE 4140-01-M